ENVIRONMENTAL PROTECTION AGENCY

[EPA-HQ-OECA-2014-0102; FRL-9990-82-OEI]

Information Collection Request Submitted to OMB for Review and Approval; Comment Request; NSPS for Oil and Natural Gas Production and Natural Gas Transmission and Distribution (Renewal)

AGENCY: Environmental Protection Agency (EPA).

ACTION: Notice.

SUMMARY: The Environmental Protection Agency (EPA) has submitted an information collection request (ICR), NSPS for Oil and Natural Gas Production and Natural Gas Transmission and Distribution (EPA ICR Number 2437.04, OMB Control Number 2060-0673), to the Office of Management and Budget (OMB) for review and approval in accordance with the Paperwork Reduction Act. This is a proposed extension of the ICR, which is currently approved through March 31, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before April 15, 2019.

ADDRESSES: Submit your comments, referencing Docket ID Number EPA-HQ-OECA-2014-0102, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is (202) 566-1744. For additional information about EPA's public docket, visit: www.epa.gov/dockets.

Abstract: The New Source Performance Standards (NSPS) for Oil and Natural Gas Production and Natural Gas Transmission and Distribution (40 CFR part 60, subpart OOOO) apply to oil and natural gas facilities that commence construction, modification or reconstruction after August 23, 2011 and on or before September 19, 2015, that are involved in the extraction and production of oil and natural gas, as well as the processing, transmission, and distribution of natural gas. The June 2016 final rule established a new subpart (40 CFR 60, subpart OOOOa) to set new standards for emissions of GHGs and VOCs for affected facilities in the crude oil and natural gas source category that commence construction, modification, or reconstruction after September 18, 2015. These amendments also included revisions to improve implementation of the NSPS subpart OOOO to address issues raised in administrative reconsideration petitions submitted on both the August 16, 2012 NSPS and the September 13, 2013 amendments. These implementation improvements did not change the requirements for operations and equipment covered by the current standards at subpart OOOO. The information collection requirements of the NSPS (40 CFR 60, subpart OOOOa) and associated burden are addressed in EPA ICR Number 2523.02. In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 60, subpart OOOO.

Form Numbers: None.

Respondents/affected entities: Oil and natural gas production and natural gas transmission and distribution facilities.

Respondent's obligation to respond: Mandatory (40 CFR part 60, subpart OOOO).

Estimated number of respondents: 532 (total).

Frequency of response: Semiannually and annually.

Total estimated burden: 69,300 hours (per year). Burden is defined at 5 CFR 1320.3(b).

Total estimated cost: $9,110,000 (per year), which includes $1,220,000 in annualized capital/startup and/or operation & maintenance costs.

Changes in the Estimates: There is a decrease in the total estimated respondent burden and total annual O&M as currently identified in the OMB Inventory of Approved Burdens. The burden decrease occurred because the standard has been in effect for more than three years and the requirements are different during initial compliance (new facilities) as compared to on-going compliance (existing facilities). Additionally, the adjustment decrease in burden is due to a decrease in the number of sources subject to 40 CFR 60, subpart OOOO. Amendments to Subpart OOOO published on June 3, 2016 (81 FR 35824) established new standards for affected facilities in the crude oil and natural gas source category that commence construction, modification, or reconstruction after September 18, 2015. Facilities with new affected sources that would have previously met the requirements for subpart OOOO must now meet the requirements of 40 CFR 60, subpart OOOOa. The number of existing respondents that are subject to subpart OOOO is assumed to decrease over time as sources are either modified (and therefore subject to Subpart OOOOa) or retired. This ICR reflects the on-going burden and costs for existing facilities.

Courtney Kerwin,
Director, Regulatory Support Division.

[FR Doc. 2019-04796 Filed 3-14-19; 8:45 am]

BILLING CODE 6560-50-P